FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with the Paperwork Reduction Act of 1995 (44 U.S.C. chapter 35), the FDIC hereby gives notice that it has submitted to the Office of Management and Budget (OMB) a request for OMB review and approval of the following information collection systems described below.

Type of Review: Renewal of a currently approved collection.

Title: Foreign Branching and Investment By Insured State Nonmember Banks.

OMB Number: 3064-0125.

Frequency of Response: On occasion.

Affected Public: All financial institutions.

Annual Burden: Estimated annual number of respondents, 61; Estimated time per response, 2 hours-400 hours; Total annual burden hours, 20,298 hours.

Expiration Date of OMB Clearance: October 31, 2004.

SUPPLEMENTARY INFORMATION: The Federal Deposit Insurance (FDI) Act requires nonmember banks to obtain FDIC consent to establish or operate a branch in a foreign country, or to acquire and hold, directly or indirectly, stock or other evidences of ownership in any foreign bank or other entity. The FDI Act also authorizes the FDIC to impose conditions for such consent and to issue regulations related thereto. The information collection activities attributable to 12 CFR part 347 and part 303, subpart J are a direct consequence of these statutory requirements.

OMB Reviewer: Mark D. Menchik, Office of Management and Budget, Office of Information and Regulatory Affairs, Washington, DC 20503.

FDIC Contact: Leneta G. Gregorie, (202) 898-3719, Legal Division, Room MB-3082, Federal Deposit Insurance Corporation, 550 17th Street, NW., Washington, DC 20429.

Comments: Comments on these collections of information are welcome and should be submitted on or before September 7, 2004 to both the OMB reviewer and the FDIC contact listed above.

ADDRESSES: Information about this submission, including copies of the proposed collection of information, may be obtained by calling or writing the FDIC contact listed above.

Dated in Washington, DC, this 2nd day of August, 2004.
Federal Deposit Insurance Corporation.
Robert E. Feldman,
Executive Secretary.

[FR Doc. 04-17952 Filed 8-5-04; 8:45 am]

BILLING CODE 6714-01-P